DEPARTMENT OF AGRICULTURE

Submission for OMB Review; Comment Request

May 4, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: A Study of Modernization of the Food Stamp Program in Florida.

OMB Control Number: 0584-NEW.

Summary of Collection: Congress has allocated funds for the purpose of evaluating and collecting data on the Food Stamp Program (FSP) as part of section 17(a)(1) of the Food Stamp Act of 1977, as amended through Public Law 106-171, February 11, 2000. The authorizing legislation states that “the Secretary may, by way of making contracts with or grants to public or private organizations or agencies, undertake research that will help improve the administration and effectiveness of the food stamp program in delivering nutrition-relating benefits.” The Study of Modernization of the Food Stamp Program in Florida has been approved under the FY 2006 research funds authorized by the Congress. The Food and Nutrition Service (FNS) is funding a case study of ACCESS Florida to assess whether these changes can be transferred to other states, and to examine how these changes might affect clients. The study will look at outcomes associated with ACCESS Florida and document the process of modernizing the FSP in Florida.

Need and Use of the Information: This case study will identify all the components of ACCESS Florida and investigate the types of impact these changes may have on program access and costs. By collecting detailed information from staff and clients, the case study can explore each change's individual impact. Primary data collection activities will include: (1) In-person interviews with district and local DCF officials, community partners, and call center staff, along with observations of program operations in three DCF districts; (2) Telephone interviews with district and local office staff and with community partners in six districts; (3) Four discussion groups with FSP applicants, participants, and eligible non-participants in each of the three districts where in-person interviews are conducted; (4) Reviews of administrative data from state and federal sources to identify potential FSP performance impacts. Not conducting this data collection would significantly impede the USDA's ability to understand how ACCESS Florida is affecting participant access, program costs and errors in benefit determination.

Description of Respondents: State, local, or tribal government; Individual or housholds; Not for-profit institutions.

Number of Respondents: 247.

Frequency of Responses: Report: other (one collection).

Total Burden Hours: 332.

Ruth Brown,
Departmental Information Collection Clearance Officer.

[FR Doc. E6-7066 Filed 5-9-06; 8:45 am]

BILLING CODE 3410-30-P